DEPARTMENT OF JUSTICE

[OMB Number 1103-0118]

Agency Information Collection Activities; Proposed eCollection eComments Requested; Extension of a Previously Approved Collection; Tribal Access Program Application

AGENCY: Office of the Chief Information Officer, Department of Justice.

ACTION: 60-Day notice.

SUMMARY: The Office of the Chief Information Officer, Department of Justice (DOJ), will be submitting the following information collection request to the Office of Management and Budget (OMB) for review and approval in accordance with the Paperwork Reduction Act of 1995.

DATES: Comments are encouraged and will be accepted for 60 days until July 7, 2025.

FOR FURTHER INFORMATION CONTACT: If you have additional comments especially on the estimated public burden or associated response time, suggestions, or need a copy of the proposed information collection instrument with instructions or additional information, please contact Allison Spratlin, Program Manager, 145 N Street NW, Washington, DC 20530; (202) 532-5047; Allison.spratlin@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The U.S. Department of Justice (DOJ) launched the Tribal Access Program for National Crime Information (TAP) provide Tribes access to national crime information systems for both criminal justice and non-criminal justice purposes. DOJ has developed an application for use by federally recognized Tribes interested in participating in TAP.

Overview of This Information Collection

1. Type of Information Collection: Extension of a previously approved collection.

2. The Title of the Form/Collection: Tribal Access Program Application.

3. The agency form number, if any, and the applicable component of the Department sponsoring the collection: There is no agency form number for this collection. The applicable component within the Department of Justice is Office of the Chief Information Officer.

4. Affected public who will be asked or required to respond, as well as the obligation to respond: Affected Public: Federally recognized Tribes. The obligation to respond is voluntary.

5. An estimate of the total number of respondents and the amount of time estimated for an average respondent to respond: The estimated number of respondents for this collection is 50. The time per response is 60 minutes to complete the application.

6. An estimate of the total annual burden (in hours) associated with the collection: The total annual burden hours for this collection is 50 hours.

7. An estimate of the total annual cost burden associated with the collection, if applicable: $0.

Activity | Number of respondents | Frequency (annually) | Total annual responses | Time per response (hours) | Total annual burden (hours)
TAPS Application | 50 | 1 | 50 | 1 | 50
Totals | 50 |  | 50 |  | 50

If additional information is required contact: Darwin Arceo, Department Clearance Officer, United States Department of Justice, Justice Management Division, Policy and Planning Staff, Two Constitution Square, 145 N Street NE, 4W-218, Washington, DC.

Dated: April 29, 2025.
Darwin Arceo,
Department Clearance Officer for PRA, U.S. Department of Justice.

[FR Doc. 2025-07710 Filed 5-2-25; 8:45 am]

BILLING CODE 4410-ML-P